DEPARTMENT OF AGRICULTURE

Rural Utilities Service

Basin Electric Power Cooperative, Inc.: Antelope Valley Station—Neset 345-kV Transmission Line Project: Notice of Availability of the Record of Decision

AGENCY: Rural Utilities Service, USDA.

ACTION: Notice of Availability of the Record of Decision.

SUMMARY: The Rural Utilities Service (RUS), an agency within the U.S. Department of Agriculture (USDA), has issued a Record of Decision (ROD) to meet its responsibilities under the National Environmental Policy Act (NEPA), RUS's Environmental Policies and Procedures, 7 CFR part 1794, and other applicable environmental requirements related to providing financial assistance for Basin Electric Power Cooperative's (Basin Electric) proposed Antelope Valley Station (AVS) to Neset 345-kV Transmission Project (Project) in North Dakota. The Administrator of RUS has signed the ROD, which was effective upon signing. This ROD concludes RUS's environmental review process in accordance with NEPA and RUS's Environmental Policies and Procedures (7 CFR part 1794). The ultimate decision as to loan approval depends on the conclusion of the environmental review process plus financial and engineering analyses. Issuance of the ROD will allow these reviews to proceed. This ROD is not a decision on Basin's loan application and is not an approval of the expenditure of federal funds.

ADDRESSES: Copies of the ROD are available upon request from Mr. Dennis Rankin, Engineering and Environmental Staff, Rural Utilities Service, 1400 Independence Avenue SW., Stop 1571, Washington, DC 20250-1571, Tel: (202) 720-1953 or email: mailto:dennis.rankin@wdc.usda.gov. The ROD is also available at RUS's Web site at http://www.rurdev.usda.gov/UWP-AVS-Neset.html.

FOR FURTHER INFORMATION CONTACT: Mr. Dennis Rankin, Engineering and Environmental Staff, Rural Utilities Service, 1400 Independence Avenue SW., Stop 1571, Washington, DC 20250-1571, Tel: (202) 720-1953, or email: dennis.rankin@wdc.usda.gov. The ROD is also available at RUS's Web site at http://www.rurdev.usda.gov/UWP-AVS-Neset.html.

SUPPLEMENTARY INFORMATION: Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

Basin Electric has identified the need for additional electric transmission capacity in northwestern North Dakota to meet reliability and system stability requirements for the region resulting from increases in demand and load forecasts. Investigations and analyses conducted for the overall power delivery systems found that without improvements, the flow of power along existing lines may result in local line overloads, especially in the vicinity of Williston, North Dakota.

To resolve these issues, Basin Electric is proposing to construct, own, and operate a new 345-kV transmission line and associated supporting infrastructure. The entire proposed Project will consist of constructing approximately 278 miles of new single circuit 345-kV, 230-kV and a double circuit 345/115-kV transmission line, the construction of 4 new substations and a switchyard, modifications to 4 existing substations, maintenance access roads, temporary construction roads, river crossings, temporary construction staging sites, and other facilities. The proposed Project would connect to the Integrated System, the high-voltage transmission grid in the upper Great Plains managed by Western Area Power Administration (Western), at several locations, including Western's Williston Substation. The new 345-kV transmission line would start at the AVS Electric Generation Station located near Beulah, North Dakota, and extend west where it would connect with Basin Electric's existing Charlie Creek 345-kV Substation located near Grassy Butte. The line would then extend north where it would connect with Basin Electric's proposed Judson Substation near Williston and terminate at Basin Electric's newly proposed Tande Substation. Additional 230-kV transmission lines would be constructed between the new Judson 345-kV Substation and Western's existing Williston Substation, between a new 345/230/115-kV substation referred to as the Blue Substation and Western's existing 230-kV transmission line, and also between the Tande 345-kV Substation and Basin Electric's existing Neset 230-kV Substation located near Tioga, North Dakota.

Three transmission line alternatives, two transmissions line variations in the Little Missouri National Grasslands (LMNG) and the No Action alternative were evaluated. Alternative C is described above, Alternative D is similar to Alternative C with the primary difference being the construction of building a double-circuit 345-kV line north of Killdeer for 63 miles to the Blue Substation. Alternative E is similar to Alternative D with the primary difference being the construction of two parallel 345-kV transmission lines north of Killdeer rather than a double-circuit line. The variations across the LMNG include double-circuiting the 345-kV line with Western's existing 230-kV transmission Line. The proposed Project is subject to the jurisdiction of the North Dakota Public Service Commission (NDPSC), which has regulatory authority for siting electrical transmission facilities within the State. Basin Electric has submitted applications to the NDPSC for Transmission Corridor and Route Permits. The NDPSC permits would authorize Basin Electric to construct the proposed Project under North Dakota rules and regulations.

RUS is authorized under the Rural Electrification Act of 1936 to make loans and loan guarantees that finance the construction of electric distribution, transmission, and generation facilities, including system improvements and replacements required to furnish and improve electric service in rural areas, as well as demand-side management, energy conservation programs, and on-grid and off-grid renewable energy systems. Basin Electric intends to request financial assistance from RUS for the proposed Project. Along with other technical and financial considerations, completing the environmental review process is one of RUS's requirements in processing Basin Electric's application. RUS is the lead Federal agency for the environmental review of the proposed Project. The Western Area Power Administration (Western) and the U.S. Forest Service (USFS) are participating as cooperating agencies. Western may approve an interconnection agreement for the project with its transmission system and the USFS may issue a special use permit under the Federal Land Policy Management Act. In accordance with 36 CFR 800.2(a)(2), Western has been designated as the lead agency for Section 106 review of cultural resources and the Endangered Species Act, Section 7 review for threatened and endangered species. Western and USFS will issue separate RODs for their actions.

RUS prepared a Final Environmental Impact Statement (FEIS) and published a notice of availability in the Federal Register on May 30, 2014, 79 FR 31085, to analyze the impacts of the respective federal actions and the proposed Project in accordance with the NEPA, as amended, Council on Environmental Quality (CEQ) Regulations for Implementing the Procedural Provisions of the NEPA (40 CFR parts 1500-1508) and RUS's Environmental Policies and Procedures (7 CFR part 1794). The FEIS also provided notice of proposed action in floodplains and wetlands. This Notice of Availability of the ROD serves as a final notice of action in floodplains and wetlands in accordance with Executive Orders 11988 and 11990.

Because the Project covers a large land area and access in some cases has been restricted, Western will complete Section 106 review using a Programmatic Agreement (PA) pursuant to 36 CFR 800.14(b)(1)(ii). The PA was executed by all appropriate parties on July 2, 2014. Based on consideration of the environmental impacts of the proposed Project and comments received throughout the agency and public review process, RUS has determined that alternative C as described above best meets the purpose and need for the proposed Project. RUS finds that the evaluation of reasonable alternatives is consistent with NEPA and RUS's Environmental Policies and Procedures. Details regarding RUS's regulatory decision and compliance with applicable regulations are included in the ROD.

Dated: September 13, 2014.
Jacqueline M. Ponti-Lazaruk,
Acting Administrator, USDA, Rural Utilities Service.

[FR Doc. 2014-22412 Filed 9-19-14; 8:45 am]

BILLING CODE 3410-15-P